FEDERAL ACCOUNTING STANDARDS ADVISORY BOARD

Notice of New Exposure Draft Identifying and Reporting on Earmarked Funds

AGENCY: Federal Accounting Standards Advisory Board.

Board Action: Pursuant to the Federal Advisory Committee Act (Pub. L. No. 92-463), as amended, section 10(a)(2), and the FASAB Rules Of Procedure, as amended in October, 1999, notice is hereby given that the Federal Accounting Standards Advisory Board has published a new exposure draft, Identifying and Reporting on Earmarked Funds.

A summary of the proposed Statements follows: The proposed standard defines earmarked funds as being financed by statutorily dedicated revenues, often supplemented by other financing sources, which remain available over time. These dedicated revenues and other financing sources are required by statute to be used for designated activities, benefits or purposes, and must be accounted for separately from the Government's general revenues.

Respondents are encouraged to comment on any part of the exposure drafts. Written comments are requested by December 17, 2003, and should be sent to: Wendy M. Comes, Executive Director, Federal Accounting Standards Advisory Board, 441 G Street, NW, Suite 6814, Washington, DC 20548.

Copies of the Exposure Drafts can be obtained by contacting FASAB at 202-512-7350. Additionally, the Exposure Drafts will be available on FASAB's Home page http://www.fasab.gov/.

FOR FURTHER INFORMATION CONTACT: Wendy Comes, Executive Director, 441 G St., NW, Mail Stop 6K17V, Washington, DC 20548, or call (202) 512-7350.

Authority: Federal Advisory Committee Act. Pub. L. No. 92-463.

Dated: October 16, 2003.
Wendy M. Comes,
Executive Director.

[FR Doc. 03-26725 Filed 10-22-03; 8:45 am]

BILLING CODE 1610-01-M